DEPARTMENT OF TRANSPORTATION

Federal Transit Administration

FTA Fiscal Year 2006 Apportionments and Allocations

AGENCY: Federal Transit Administration (FTA), DOT.

ACTION: Notice.

SUMMARY: The “Transportation, Treasury, Housing and Urban Development, the Judiciary, the District of Columbia, and Independent Agencies Appropriations Act, 2006” (Pub. L. 109-115), signed into law by President Bush on November 30, 2005, appropriates funds for all of the surface transportation programs of the Department of Transportation for the fiscal year ending September 30, 2006. This notice provides information on the FY 2006 transit appropriations for the FTA assistance programs, and apportions and allocates FY 2006 funds. The Notice also makes corrections to information in the SAFETEA-LU implementation Notice published in the Federal Register on November 30, 2005.

FOR FURTHER INFORMATION CONTACT: For general information about this notice contact Mary Martha Churchman, Director, Office of Transit Programs, (202) 366-2053. Please contact the appropriate FTA regional office for any specific requests for information or technical assistance. The Appendix at the end of this notice includes contact information for FTA regional offices.

SUPPLEMENTARY INFORMATION:

Table of Contents

I. Overview

II. FY 2006 Funding for FTA Programs

A. Funding Based on FY 2006 Appropriations Act

B. Apportionments and Allocations

III. Specific Directions and Instructions in the 2006 Appropriations Act

IV. Corrections

Tables

1. SAFETEA-LU Authorized Programs and Funding Levels

2. FY 2006 Appropriations and Apportionments for Grant Programs

3. FY 2006 Metropolitan Transportation Planning Program and Statewide Transportation Planning Program Apportionments

4. FY 2006 Section 5307 and Section 5340 Urbanized Area Apportionments

5. FY 2006 Section 5307 Apportionment Formula

6. FY 2006 Formula Programs Apportionment Data Unit Values

7. Urbanized Areas 200,000 or More in Population Eligible To Use Section 5307 Funds for Operating Assistance

8. FY 2006 Clean Fuels Program Allocations

9. FY 2006 Section 5309 Fixed Guideway Modernization Apportionments

10. FY 2006 Fixed Guideway Modernization Program Apportionment Formula

11. FY 2006 Bus and Bus Facility Program Allocations

12. FY 2006 New Starts Program Allocations

13. FY 2006 Section 5310 Special Needs for Elderly Individuals and Individuals With Disabilities Apportionments

14. FY 2006 Section 5311 and Section 5340 Nonurbanized Apportionments and Section 5311(b)(3) Rural Transit Assistance Program (RTAP) Apportionments

15. FY 2006 National Research Program Allocations

16. FY 2006 Job Access and Reverse Commute Program Apportionments

17. FY 2006 New Freedom Program Apportionments

18. FY 2006 Alternative Analysis Allocations

19. Extended Earmarks for Bus and Bus Facility and New Starts Programs

Appendix

I. Overview

This document apportions or allocates annual appropriations among potential program recipients. In addition, the document contains specific instructions or guidance for FTA programs and funding, in the “Transportation, Treasury, Housing and Urban Development, the Judiciary, the District of Columbia, and Independent Agencies Appropriations Act, 2006” (Pub. L. 109-115, November 30, 2005; hereafter called the 2006 Appropriations Act).

On November 30, 2005, the FTA Notice entitled “FTA Transit Program Changes, Authorized Funding Levels and Implementation of the Safe, Accountable, Flexible, Efficient Transportation Equity Act: A Legacy for Users” was published in the Federal Register. That Notice contains information about FTA program guidance, requirements, period of availability, and other important information for FY 2006, and should be used together with this document. It can be found on the FTA Web site at http://www.fta.dot.gov/2930_ENG_HTML.htm, and is also available for public comment on the DOT Docket Web site: http://dms.dot.gov identified by DOT DMS Docket Number FTA-2005-23089. Two corrections to the November 30 Notice are included in this Notice.

II. FY 2006 Funding for FTA Programs

The three major FTA program areas included in the notice are formula and bus grants, capital investments, and research. Of the 17 separate FTA programs contained in this notice that fall under the major program area headings, the funding for 10 is apportioned by statutory formula. Funding for the other seven is allocated on a discretionary or competitive basis.

A. Funding Based on FY 2006 Appropriations Act

The 2006 Appropriations Act provides funding from the General Fund of the Treasury and Mass Transit Account of the Highway Trust Fund that totals $8.59 billion for FTA programs. This amount is slightly less than the $8.62 billion authorized for FY 2006 in SAFETEA-LU. Table 1 shows the SAFETEA-LU authorized funding levels for transit programs. Table 2 of this document shows the appropriated funding levels for FTA programs for FY 2006. The 2006 Appropriations Act made funding available for the entire fiscal year.

B. Apportionments and Allocations

An apportionment or allocation table is included in this Notice for each program, except for the Section 5340 Growing States and High Density States Formula. The apportionments for this formula were combined with the Section 5307 or Section 5311 apportionments, as appropriate, and shown as a single amount, as directed by Congress in the SAFETEA-LU conference report. The amount shown in a table for an urbanized area, State, or specific project or recipient is available for obligation or award to a grant, under the respective FTA program.

Because we combined Sections 5307 and 5340 apportionments as directed by Congress, we did not include in this Notice a separate breakout of the apportionment amounts to urbanized areas (UZAs) or States for Small Transit Intensive Cities (STIC) or for Section 5340 formulas. However, this information is available and may be obtained from the FTA regional offices for your UZA or State.

Unless the law provides otherwise, earmarked project allocations for Clean Fuels, Bus and Bus Facility, New Starts, Alternative Analysis, and the National Research Program must conform to the eligibility requirements of the particular program. Prospective recipients are encouraged to contact the appropriate FTA regional office to discuss project eligibility. The regional office can provide technical assistance to help develop an eligible project.

III. Specific Directions and Instructions in the 2006 Appropriations Act

The 2006 Appropriations Act and accompanying conference report include instructions on the use or disposition of selected program funding, and on the use of funds for particular projects. These provisions are listed below, with supplemental information where appropriate.

(1) The Appropriations Act transfers $47,766,000 from the Fixed Guideway Modernization program to New Starts for activities under that program.

(2) The Appropriations Act transfers $25,215,000 available for the Clean Fuels program to the Bus and Bus Facility program. Of the $43,000,000 made available for the Clean Fuels program, $17,785,000 remains available for Clean Fuels projects authorized by SAFETEA-LU.

(3) The Conference Report directs FTA not to reallocate funds designated for certain Bus and New Starts projects designated in FY 2003 and prior years. These extended earmarks are listed in Table 19, along with several other bus projects extended by previous Congressional action.

(4) Section 113 provides that “notwithstanding any other provision of law, projects and activities described in the statement of managers accompanying this Act under the headings “Federal-Aid Highways” and “Federal Transit Administration” shall be eligible for fiscal year 2006 funds made available for the project for which each project or activity is so designated: Provided, That the Federal share payable on account of any such projects and activities subject to this section shall be the same as the share required by the Federal program under which each project or activity is designated unless otherwise provided in this Act.” This general provision makes the Section 5309 bus projects and activities designated in the FY 2006 conference report eligible for the purposes indicated. The specific bus and clean fuels projects designated in SAFETEA-LU are also eligible by virtue of being in statute. In some instances, FTA may approve use of the funds under the Section 5309 Bus and Bus Facilities or Clean Fuels program for eligible activities other than those designated in statute or report language upon clarification from the relevant House and Senate committees on authorization or appropriations respectively.

(5) The New Starts project allocations listed in Table 12 include some projects which may not have yet conducted or completed alternatives analysis. Pursuant to SAFETEA-LU, FY 2006 New Starts funds may only be used for preliminary engineering, final design, and construction. A New Starts project designated to receive Section 5309 New Starts funds in the FY 2006 Appropriations Act must complete alternatives analysis and be approved by FTA to enter preliminary engineering before expending FY 2006 New Starts funds for preliminary engineering.

(6) Section 112 provides funding for activities eligible under Title 23 or Title 49 at 100 percent Federal share, and are available until expended. Surface Transportation Projects and Highway Priority Projects to be funded under this section are designated in the conference report. These earmarks include some transit projects, similar to Section 115 and Section 117 in the FY 2004 and FY 2005 appropriations acts. Recipients of designations for transit projects under Section 112 should initiate discussions with the appropriate FHWA division office to identify transit projects that may be administered by FTA and request that FHWA allot the funds to FTA.

(7) Section 145 states that amounts made available from the bus category of the Capital Investment Grants Account or Discretionary Grants Account in this or any other previous Appropriations Act that remain unobligated or unexpended in a grant for a multimodal transportation facility in Burlington, Vermont, may be used for site-preparation and design purposes of a multimodal transportation facility in a different location within Burlington, Vermont, than originally intended notwithstanding previous expenditures incurred for such purposes at the original location.

(8) Section 146 provides that notwithstanding any other provision of law, funds designated in the conference report accompanying Public Law 108-447 and Public Law 108-199 for the King County Metro Park and Ride on First Hill, Seattle, Washington, shall be available to the Swedish Hospital parking garage, Seattle, Washington, subject to the same conditions and requirements of section 125 of Division H of Public Law 108-447.

(9) Section 147 provides that funds in this Act that are apportioned to the Charleston Area Regional Transportation Authority to carry out section 5307 may be used to acquire land, equipment, or facilities used in public transportation from another governmental authority in the same geographic area. The non-Federal share under section 5307 may include revenues from the sale of advertising and concessions.

(10) Section 148 provides that notwithstanding any other provision of law, any unobligated funds designated to the Jacksonville Transportation Authority, Community Transportation Coordinator Program under the heading “Job Access and Reverse Commute Grants” in the statement of the managers accompanying Public Law 108-199, may be made available to the Jacksonville Transportation Authority for any purpose authorized under the Job Access and Reverse Commute program.

(11) Section 149 provides that notwithstanding any other provision of law, any funds made available to the South Shore Commuter Rail, Indiana, project under the Federal Transit Administration Capital Investment Grants Account in Division H of Public Law 108-447 that remain available may be used for remodernization of the South Shore Commuter Rail system.

IV. Corrections

The following corrections are made to information in the Federal Register published November 30, entitled “FTA Transit Program Changes, Authorized Funding Levels and Implementation of the Safe, Accountable, Flexible, Efficient Transportation Equity Act: A Legacy for Users'' (70 FR 71950 et seq.).

1. In the description of eligibility of intercity bus and intercity rail facilities in section IV part (A), subsection 4 “Intercity Bus and Intercity Rail” on page 71952, the phrase “physical and functional relationship to public transportation” should read “physical or functional relationship to public transportation.”

2. In the description of the Job Access Reverse Commute Program in section VI part (M), page 71967, under subsection 2, “Basis for Formula Apportionment,” in the 2nd paragraph, the phrase “persons with disabilities” should read “low-income individuals and welfare recipients.”

Issued on: December 13, 2005.
David B. Horner,
Acting Deputy Administrator.

Appendix—FTA Regional Offices

Richard H. Doyle, Regional Administrator, Region 1—Boston, Kendall Square, 55 Broadway, Suite 920, Cambridge, MA 02142-1093, Tel. 617 494-2055

States served: Connecticut, Maine, Massachusetts, New Hampshire, Rhode Island, and Vermont

Letitia Thompson, Regional Administrator, Region 2—New York, One Bowling Green, Room 429, New York, NY 10004-1415, Tel. No. 212 668-2170

States served: New Jersey, New York, and the Virgin Islands

Susan Borinsky, Regional Administrator, Region 3—Philadelphia, 1760 Market Street, Suite 500, Philadelphia, PA 19103-4124, Tel. 215 656-7100

States served: Delaware, Maryland, Pennsylvania, Virginia, West Virginia, and District of Columbia

Yvette G. Taylor, Regional Administrator, Region 4—Atlanta, Atlanta Federal Center, Suite 17T50, 61 Forsyth Street SW, Atlanta, GA 30303, Tel. 404 562-3500

States served: Alabama, Florida, Georgia, Kentucky, Mississippi, North Carolina, Puerto Rico, South Carolina, and Tennessee

Don Gismondi, Deputy Regional Administrator, Region 5—Chicago, 200 West Adams Street, Suite 320, Chicago, IL 60606, Tel. 312 353-2789

States served: Illinois, Indiana, Michigan, Minnesota, Ohio, and Wisconsin

Robert C. Patrick, Regional Administrator, Region 6—Ft. Worth, 819 Taylor Street, Room 8A36, Ft. Worth, TX 76102, Tel. 817 978-0550

States served: Arkansas, Louisiana, Oklahoma, New Mexico and Texas

Mokhtee Ahmad, Regional Administrator, Region 7—Kansas City, MO, 901 Locust Street, Room 404, Kansas City, MO 64106, Tel. 816 329-3920

States served: Iowa, Kansas, Missouri, and Nebraska

Lee O. Waddleton, Regional Administrator, Region 8—Denver, 12300 West Dakota Ave., Suite 310, Lakewood, CO 80228-2583, Tel. 720-963-3300

States served: Colorado, Montana, North Dakota, South Dakota, Utah, and Wyoming

Leslie T. Rogers, Regional Administrator, Region 9—San Francisco, 201 Mission Street, Room 2210, San Francisco, CA 94105-1926, Tel. 415 744-3133

States served: American Samoa, Arizona, California, Guam, Hawaii, Nevada, and the Northern Mariana Islands

Rick Krochalis, Regional Administrator, Region 10—Seattle, Jackson Federal Building, 915 Second Avenue, Suite 3142, Seattle, WA 98174-1002, Tel. 206 220-7954

States served: Alaska, Idaho, Oregon, and Washington

BILLING CODE 4910-57-P

[FR Doc. 05-24154 Filed 12-19-05; 8:45 am]

BILLING CODE 4910-57-C